DEPARTMENT OF THE INTERIOR

National Park Service

Notice of Intent To Prepare an Environmental Impact Statement for the Dyke Marsh Wetland Restoration and Long-Term Management Plan

AGENCY: National Park Service, Department of the Interior.

ACTION: Notice of intent to prepare an Environmental Impact Statement for the Dyke Marsh Wetland Restoration and Long-term Management Plan, George Washington Memorial Parkway.

SUMMARY: In accordance with § 102(2)(C) of the National Environmental Policy Act (42 U.S.C. 43321 et seq.), the National Park Service (NPS) is preparing an Environmental Impact Statement for the Dyke Marsh Wetland Restoration and Long-term Management Plan (EIS) for George Washington Memorial Parkway, Virginia. The authority for publishing this notice is contained in 40 CFR 1508.22.

The purpose of this EIS is to develop a plan for the restoration and long-term management of the tidal freshwater marsh and other associated wetland habitats lost or impacted in Dyke Marsh Preserve on the Potomac River. Dyke Marsh wetland resources, community structure and natural ecosystem functions have been damaged by previous human uses and are subject to continuing threats. A restoration and long-term management plan is needed at this time to: (1) Protect the existing wetlands from erosion, exotic plant species, loss of habitat and altered hydrologic regimes; (2) Restore wetlands and ecological functions and processes lost through sand and gravel mining and shoreline erosion; (3) Reduce increased restoration and management costs associated with continued wetland loss; and (4) Improve ecosystem services that benefit the Potomac Watershed.

Scoping Process. The purpose of scoping outreach efforts is to elicit early public comment regarding project purpose, need, and objectives, issues and concerns, the nature and extent of potential environmental impacts (and as appropriate, mitigation measures), and alternatives which should be addressed in the EIS. Through the outreach activities planned in the scoping phase, NPS welcomes information and suggestions from the public. This notice formally initiates the public scoping comment phase for the EIS process. A scoping newsletter has been prepared that details the purpose, need, and objectives identified to date. Copies of that information will be posted at parkplanning.nps.gov/gwmp and may be obtained from Brent Steury, Turkey Run Park, McLean, VA 22101, (703) 289-2541. A public scoping open house will be conducted in the area around Dyke Marsh. Please check the local newspapers, the NPS Planning, Environment and Public Comment (PEPC) Web site at http://parkplanning.nps.gov/gwmp, or contact Brent Steury for more information regarding the open house.

DATES: The National Park Service is soliciting further public input into this planning process until May 23, 2008.

ADDRESSES: Persons commenting on the purpose, need, objectives, alternative elements, or any other issues associated with the plan, may submit comments through the PEPC Web site at http://parkplanning.nps.gov/gwmp, by hand-delivery or mail to: Superintendent, George Washington Memorial Parkway, Turkey Run Park, McLean, Virginia 22101, or by providing comments to NPS staff at the public open house.

Before including your address, phone number, e-mail address, or other personal identifying information in your comment, you should be aware that your entire comment—including your personal identifying information—may be made publicly available at any time. While you can ask us to withhold your personal identifying information from public review, we cannot guarantee that we will be able to do so.

FOR FURTHER INFORMATION CONTACT: Brent Steury, Supervisory Biologist, Natural Resources Program Manager, George Washington Memorial Parkway, Park Headquarters, Turkey Run Park, McLean, VA 22101, (703) 289-2541.

SUPPLEMENTARY INFORMATION: The purpose of this ETS is to develop a plan for the restoration and long-term management of the tidal freshwater marsh and other associated wetland habitats lost or impacted in Dyke Marsh Preserve on the Potomac River.

Dyke Marsh Preserve is one of the last large tracts of tidal freshwater marsh along the Potomac River in the Washington, DC area and has existed for at least 5,000 years.

Located just south of Alexandria, Virginia, Dyke Marsh Preserve is viewed as a national treasure because of its proximity to the Nation's Capital and a large urban/suburban population, its history and its current potential for provision of ecosystem services, recreational values and educational opportunities. Despite degradation to the existing marsh, it continues to provide numerous natural benefits and services including resident and migratory wildlife habitat, refuge for state endangered species, and attenuation of tidal energy, shoreline stabilization, flood control, and water quality enhancement.

The goal of the actions described in the EIS is to restore areas of Dyke Marsh that were previously impacted using soil elevations that will permit the establishment of sustainable plant communities while preventing damage to vegetation in the existing wetland. In the long-term, the project will provide additional wetlands to the Potomac River watershed ecosystem, preserve the aesthetic and natural values of Dyke Marsh and the George Washington Memorial Parkway, and continue to offer recreational opportunities currently available. Specific objectives of the plan are:

Natural Resources (1) Restore, protect, and maintain tidal freshwater wetlands and associated ecosystems to provide habitat for fish, wildlife and other biota; ensure management actions promote native species while minimizing the intrusion of invasives. (2) Reduce or eliminate erosion of the existing marsh and provide for erosion control measures in areas of restored marsh. (3) To the extent practicable, restore and maintain hydrologic processes needed to sustain Dyke Marsh.

Cultural Resources Ensure management actions continue to protect the historic resources and cultural landscape features associated with Dyke Marsh and the George Washington Memorial Parkway.

Visitor Experience Include appropriate educational, interpretation, and research opportunities at Dyke Marsh as a part of any management action and make them accessible to diverse audiences.

Preliminary scoping also identified broad categories of elements that will be further defined as alternatives become developed. These categories include: types of actions that may be taken (stabilizing the existing marsh, restoring wetlands lost to sand and gravel mining, restoring historic tidal flows, etc.); various ways these actions could be implemented (types of containment structures, placement of tidal channels, stabilization techniques, etc.); and where, and to what extent, these actions may be taken (full vs. partial restoration, identification of priority areas, considerations related to the timing of the actions, etc.).

Dated: February 11, 2008.
Joseph M. Lawler,
Regional Director, National Capital Region.

[FR Doc. E8-7148 Filed 4-7-08; 8:45 am]

BILLING CODE 4312-JK-M